DEPARTMENT OF THE INTERIOR

National Park Service

Notice of Meetings for the National Park Service (NPS) Subsistence Resource Commission (SRC) Program Within the Alaska Region

AGENCY: National Park Service, Interior.

ACTION: Notice of meetings for the National Park Service (NPS) Subsistence Resource Commission (SRC) program within the Alaska Region.

SUMMARY: The NPS announces the SRC meeting schedules for the following areas: Aniakchak National Monument, Cape Krusenstern National Monument, Kobuk Valley National Park, Lake Clark National Park, and Wrangell-St. Elias National Park. The purpose of each meeting is to develop and continue work on NPS subsistence hunting program recommendations and other related subsistence management issues. Each meeting is open to the public and will have time allocated for public testimony. The public is welcome to present written or oral comments to the SRC. Each meeting will be recorded and meeting minutes will be available upon request from each Superintendent for public inspection approximately six weeks after each meeting. The NPS SRC program is authorized under Title VIII, Section 808 of the Alaska National Interest Lands Conservation Act, Pub. L. 96-487, to operate in accordance with the provisions of the Federal Advisory Committee Act.

DATES: The Aniakchak National Monument SRC meeting will be held on Monday, October 6, 2008, from 9 a.m. to 12 p.m., at the Katmai National Park and Preserve headquarters conference room in King Salmon, AK.

FOR FURTHER INFORMATION CONTACT: Mary McBurney, Subsistence Manager, telephone: (907) 235-7891, or Ralph Moore, Superintendent, telephone: (907) 246-2120, at Aniakchak National Park and Preserve, P.O. Box 7, King Salmon, AK 99613.

DATES: The Cape Krusenstern National Monument SRC and the Kobuk Valley National Park SRC meetings will be held on Thursday, October 9, 2008 and Friday, October 10, 2008 from 9 a.m. to 5 p.m., at the U.S. Fish and Wildlife Service Office in Kotzebue, AK.

FOR FURTHER INFORMATION CONTACT: Ken Adkisson, Subsistence Manager, telephone (907) 443-2522, or Willie Goodwin, Subsistence Manager, and George Helfrich, Superintendent, telephone: (907) 442-3890, at Western Arctic Parklands, P.O. Box 1029, Kotzebue, AK 99752.

DATES: The Lake Clark National Park SRC meeting will be held on September 24, 2008, from 1 p.m. to 5 p.m. at the Lake Clark National Park and Preserve Visitor Center in Port Alsworth, AK.

FOR FURTHER INFORMATION CONTACT: Mary McBurney, Subsistence Manager, telephone: (907) 235-7891, or Joel Hard, Superintendent, and Michelle Ravenmoon, Subsistence Coordinator, telephone: (907) 781-2218, at Lake Clark National Park and Preserve, 1 Park Place, Port Alsworth, AK 99653.

DATES: The Wrangell-St. Elias National Park SRC meeting will be held on Wednesday, October 29, 2008 and Thursday, October 30, 2008, from 9 a.m. to 5 p.m. at the Yakutat-Alaska Native Brotherhood Hall in Yakutat, AK.

FOR FURTHER INFORMATION CONTACT: Barbara Cellarius, Subsistence Manager, telephone: (907) 822-7236, or Meg Jensen, Superintendent, telephone: (907) 822-5234, at Wrangell-St. Elias National Park and Preserve, P.O. Box 439, Copper Center, AK 99573.

SUPPLEMENTARY INFORMATION: SRC meeting locations and dates may need to be changed based on weather or local circumstances. If meeting dates and locations are changed notice of each meeting will be published in local newspapers and announced on local radio stations prior to the meeting dates. The meetings may end early if all business is completed.

The agendas for each meeting include the following:

1. Call to Order (SRC Chair)

2. SRC Roll Call and Confirmation of Quorum

3. SRC Chair and Superintendent's Welcome and Introductions

4. Review and Approve Agenda

5. Status of SRC Membership

6. SRC Member Reports

7. Superintendent and NPS Staff Reports

8. Federal Subsistence Board Update (Review Proposals, Board Actions)

9. State of Alaska Board Actions Update

10. New Business

11. Agency and Public Comments

12. SRC Work Session

13. Set Time and Place of Next SRC Meeting

Adjournment

Victor Knox,
Deputy Regional Director.

[FR Doc. E8-19437 Filed 8-20-08; 8:45 am]

BILLING CODE 4312-HE-P